DEPARTMENT OF ENERGY

Federal Energy Regulatory Commission

[Docket No. RP00-466-001, and RP00-618-002]

Enbridge Offshore Pipelines (UTOS) LLC; Notice of Compliance Filing

June 12, 2002.

Take notice that on May 31, 2002, Enbridge Offshore Pipelines (UTOS) LLC, formerly U-T Offshore System, L.L.C., (UTOS) tendered for filing as part of its FERC Gas Tariff, Fifth Revised Volume No. 1, the revised tariff sheets listed in Appendix A to the filing, with an effective date of July 1, 2002.

UTOS states that the filing is being made in compliance with the Commission's Order on Compliance with Order Nos. 587-G, 587-L, 637 and 637-A issued on May 1, 2002, in these proceedings.

UTOS states that complete copies of its filing are being mailed to all of the parties on the Commission's Official Service list for these proceedings, all of its jurisdictional customers, and applicable State Commissions.

Any person desiring to protest said filing should file a protest with the Federal Energy Regulatory Commission, 888 First Street, NE., Washington, DC 20426, in accordance with Section 385.211 of the Commission's Rules and Regulations. All such protests must be filed on or before June 18, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-15409 Filed 6-18-02; 8:45 am]

BILLING CODE 6717-01-P